DEPARTMENT OF COMMERCE

International Trade Administration

[A-533-502]

Extension of Time Limit for Certain Welded Carbon Steel Standard Pipes and Tubes from India: Preliminary Results of Antidumping Duty Administrative Review.

AGENCY: Import Administration, International Trade Administration, Department of Commerce

DATES: Effective Date: December 28, 2009.

FOR FURTHER INFORMATION CONTACT: Michael A. Romani, AD/CVD Operations, Office 5, Import Administration, International Trade Administration, U.S. Department of Commerce, 14th Street and Constitution Avenue, NW, Washington, DC 20230; telephone: (202) 482-3477.

SUPPLEMENTARY INFORMATION:

Background

The Department of Commerce (the Department) published an antidumping duty order on certain welded carbon steel standard pipes and tubes from India on May 12, 1986. See Antidumping Duty Order; Certain Welded Carbon Steel Standard Pipes and Tubes from India, 51 FR 17384 (May 12, 1986). In response to an opportunity to request an administrative review, Wheatland Tube Company, the petitioner in this proceeding, requested that the Department conduct an administrative review with respect to ten Indian producers. On June 24, 2009, the Department published a notice of initiation of an administrative review of the antidumping duty order on certain welded carbon steel standard pipes and tubes from India for the period May 1, 2008, through April 30, 2009. See Initiation of Antidumping and Countervailing Duty Administrative Reviews and Requests for Revocation in Part, 74 FR 30052 (June 24, 2009). The preliminary results of this administrative review are currently due no later than January 31, 2010.

Extension of Time Limit for Preliminary Results

Section 751(a)(3)(A) of the Tariff Act of 1930, as amended (the Act), requires the Department to make a preliminary determination within 245 days after the last day of the anniversary month of an order for which a review is requested and a final determination within 120 days after the date on which the preliminary determination is published in the Federal Register. If it is not practicable to complete the review within these time periods, section 751(a)(3)(A) of the Act allows the Department to extend the time limit for the preliminary determination to a maximum of 365 days after the last day of the anniversary month.

We determine that it is not practicable to complete the preliminary results of this review by the current deadline of January 31, 2010, because we require additional time to analyze a number of complex cost-accounting and corporate-affiliation issues relating to this administrative review that have been raised by parties to the proceeding. Therefore, in accordance with section 751(a)(3)(A) of the Act and 19 CFR 351.213(h)(2), we are extending the time period for issuing the preliminary results of this review by 92 days to May 3, 2010.

This notice is published in accordance with sections 751(a)(3)(A) and 777(i)(1) of the Act.

Dated: December 17, 2009.
John M. Andersen
Acting Deputy Assistant Secretary for Antidumping and Countervailing Duty Operations

[FR Doc. E9-30650 Filed 12-24-09; 8:45 am]

BILLING CODE 3510-DS-S